DEPARTMENT OF COMMERCE

National Oceanic and Atmospheric Administration

RIN 0648-XA165

Marine Mammals; File No. 15510

AGENCY: National Marine Fisheries Service (NMFS), National Oceanic and Atmospheric Administration (NOAA), Commerce.

ACTION: Notice; receipt of application.

SUMMARY: Notice is hereby given that Jennifer Burns, Ph.D., University of Alaska Anchorage, Biology Department, 3101 Science Circle, Anchorage, AK, has applied in due form for a permit to receive, import, and export marine mammal parts for scientific research.

DATES: Written, telefaxed, or e-mail comments must be received on or before February 23, 2011.

ADDRESSES: The application and related documents are available for review by selecting “Records Open for Public Comment” from the Features box on the Applications and Permits for Protected Species (APPS) home page, https://apps.nmfs.noaa.gov, and then selecting File No. 15510 from the list of available applications.

These documents are also available upon written request or by appointment in the following office(s):

Permits, Conservation and Education Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

Written comments on this application should be submitted to the Chief, Permits, Conservation and Education Division, at the address listed above. Comments may also be submitted by facsimile to (301) 713-0376, or by e-mail to NMFS.Pr1Comments@noaa.gov. Please include “File No. 15510” in the subject line of the e-mail comment.

Those individuals requesting a public hearing should submit a written request to the Chief, Permits, Conservation and Education Division at the address listed above. The request should set forth the specific reasons why a hearing on this application would be appropriate.

FOR FURTHER INFORMATION CONTACT: Amy Sloan or Laura Morse, (301) 713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicant proposes to obtain samples from up to 50 animals annually of each of the following species: Harp seal, Pagophilus groenlandica; hooded seal, Cystophora cristata; gray seal, Halichoerus grypus; bearded seal, Erignathus barbatus; ringed seal, Phoca hispida; harbor seal, Phoca vitulina; spotted seal, Phoca largha; and ribbon seal, Phoca fasciata. The applicant also proposes to import samples annually from up to 6 captive Northern fur seals, Callorhinus ursinus; and 6 captive Steller Sea lions, Eumetopias jubatus. Samples will be from animals taken for subsistence harvest in Alaska, and taken during scientific and/or subsistence collections including but not limited to the national waters of Canada, Norway, and the United Kingdom, and in international waters. Samples may be received, imported and exported from any country worldwide over a five-year period. The purpose of the proposed research is to study the physiological development of pinnipeds including the development of thermoregulation, muscle performance characteristics, tissue oxygen stores, and hormonal and other regulatory factors in tissues.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 19, 2011.
P. Michael Payne,
Chief, Permits, Conservation and Education Division, Office of Protected Resources, National Marine Fisheries Service.

[FR Doc. 2011-1359 Filed 1-21-11; 8:45 am]

BILLING CODE 3510-22-P